DEPARTMENT OF EDUCATION

[Docket No.: ED-2021-SCC-0019]

Agency Information Collection Activities; Submission to the Office of Management and Budget for Review and Approval; Comment Request; 2022 School Survey on Crime and Safety (SSOCS:2022)

AGENCY: Institute of Educational Sciences (IES), Department of Education (ED).

ACTION: Notice.

SUMMARY: In accordance with the Paperwork Reduction Act of 1995, ED is proposing a revision of a currently approved collection.

DATES: Interested persons are invited to submit comments on or before June 18, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2022 School Survey on Crime and Safety (SSOCS:2022).

OMB Control Number: 1850-0761.

Type of Review: A revision of a currently approved collection.

Respondents/Affected Public: Individuals and Households.

Total Estimated Number of Annual Responses: 11,623.

Total Estimated Number of Annual Burden Hours: 4,907.

Abstract: The School Survey on Crime and Safety (SSOCS) is a nationally representative survey of elementary and secondary school principals that serves as the primary source of school-level data on crime and safety in public schools, and was conducted in 2000, 2004, 2006, 2008, 2010, 2016, 2018, and 2020 (OMB #1850-0761). Four years separated the first two collections of SSOCS to allow for sufficient time to study the results of the first survey and to allow for necessary redesign work; the next three collections were conducted at 2-year intervals. Due to a reorganization of the sponsoring agency (the Office of Safe and Drug-Free Schools) and funding issues, the 2012 administration of SSOCS, although approved by OMB, was not fielded. With new funding available through the National Institute of Justice (NIJ), SSOCS was conducted again in the spring of the 2015-16 school year. With continued dedicated funding, SSOCS has resumed collection on a biennial basis, with collections during the spring of the 2017-18 and the 2019-20 school years, and the next planned collection during the spring of the 2021-22 school year.

SSOCS is a survey of public schools covering the topic of school crime and violence and is designed to produce nationally representative data on public schools. Historically, it has been conducted by mail, with telephone and email follow-up; however, as an experiment, an internet version was fielded during the SSOCS:2018 administration. For SSOCS:2020, the internet version was initially offered to all respondents, with the paper version sent via mail as a follow-up, and the same methodology will be used for SSOCS:2022. The respondent is the school principal, or a member of the school staff designated by the principal as the person “the most knowledgeable about school crime and policies to provide a safe environment.”

The 2022 survey is being funded by the U.S. Department of Education's Office of Safe and Supportive Schools (previously known as the Office of Safe and Healthy Students) and conducted by the National Center for Education Statistics (NCES) of the Institute of Education Sciences (IES), within the U.S. Department of Education. As with prior SSOCS collections, NCES has entered into an interagency agreement with the Census Bureau to administer the 2022 collection.

This request is to conduct the 2022 administration of the School Survey on Crime and Safety (SSOCS). As part of SSOCS:2022 development, cognitive testing on new COVID-19 pandemic items will be conducted during the winter and spring of 2021, scheduled to be completed in late-spring 2021. The wording and design of these items may be modified in response to the findings of this testing and, as such, will be updated in a change request, tentatively scheduled for October 2021.

Dated: May 13, 2021.
Stephanie Valentine,
PRA Coordinator, Strategic Collections and Clearance Governance and Strategy Division, Office of Chief Data Officer, Office of Planning, Evaluation and Policy Development.

[FR Doc. 2021-10500 Filed 5-18-21; 8:45 am]

BILLING CODE 4000-01-P